DEPARTMENT OF DEFENSE

Office of the Secretary

Meeting of the Secretary of Defense's Defense Advisory Board for Employer Support of the Guard and Reserve (DAB-ESGR)

AGENCY: Department of Defense.

ACTION: Notice of open meeting.

SUMMARY: This notice announces a meeting of the DAB-ESGR. This meeting will focus on the status of DoD actions and recommendations from previous DAB meetings and relevant discussions on Reserve Affairs recruiting and review of DoD planning guidance for future mobilizations and targeted communications to employers and is open to the public.

DATES: 0900-1530 hrs, 26 April 2007.

Location: Assistant Secretary of Defense for Reserve Affairs conference room 2E223, the Pentagon.

For Further Information Contact: Interested attendees may contact MAJ Elaine M. Gullota at 703-696-1385 ext 540, or e-mail at Elaine.gullotta@osd.mil.

Agenda:

0900 Convene.

0905 Oath of Office (Mr. Wilson).

0910 Review of Last Meeting Minutes.

0930 Honorable Thomas E. Hall, Assistant Secretary of Defense Reserve Affairs.

0940 Admiral Giambastiani, Vice Chairman, Joint Chiefs of Staff.

1000 Honorable Gordon R. England, Deputy Secretary of Defense.

1015 Major General Raymond Carpenter, Special Assistant to the Director, Army National Guard, Impact of DoD policy changes for future mobilizations.

1100 Lieutenant General Jack C. Stultz, Chief, Army Reserve.

1130 Lunch (Executive Dining Room, #4).

1300 Ms. Kathy Naylor, Director Executive Leadership, Unisys, The Shared Resource-Communications and Outreach to Employers.

1330 Mr. Gordon Summer, Executive Director ESGR.

1345 Honorable David S.C. Chu, Under Secretary of Defense Personnel and Readiness.

1400 Board Discussion.

1500 Mr. Dave Janes, Chairman ESGR, Remarks.

1515 Adjourn.

Location: Pentagon Room (2E223), OSD-RA.

Dated: April 6, 2007.
L.M. Bynum,
Alternate OSD Federal Register Liaison Officer, DoD.

[FR Doc. 07-1829 Filed 4-12-07; 8:45 am]

BILLING CODE 5001-06-M